DEPARTMENT OF THE INTERIOR

Bureau of Land Management

[UTU 014955 and UTU 015233]

Opening of National Forest System Lands; Utah

AGENCY: Bureau of Land Management, Interior.

ACTION: Notice of realty action.

SUMMARY: Public Land Order No. 1579, which withdrew lands within National Forests and reserved them for use of the Forest Service for administrative sites and recreational areas, was partially revoked as to 3,613 acres by Public Land Order No. 7663. This order opens those previously withdrawn lands to such forms of disposition as may by law be made of National Forest System lands and to mining.

DATES: Effective Date: October 14, 2008.

FOR FURTHER INFORMATION CONTACT: Rhonda Flynn, BLM Utah State Office, 440 West 200 South, Suite 500, Salt Lake City, Utah 84101-1345, 801-539-4132.

SUPPLEMENTARY INFORMATION: 1. Public Land Order No. 1579 (23 FR 798 (1958)), withdrew lands for administrative sites and recreational areas.

2. Public Land Order No. 7663 (71 FR 28370 (2006)) revoked Public Land Order No. 1579 insofar as it affected the lands described below. The Forest Service has determined the lands can be opened to such forms of disposition as may by law be made of National Forest System lands, including location and entry under the United States mining laws:

(a) Uinta National Forest

Salt Lake Meridian

Aspen Grove Recreation Area

T. 5 S., R. 3 E.,

Sec. 4, all of the S½ of lot 7 north of the centerline of State Highway 92, SE¼SE¼SW¼, and S½SW¼SE¼;

Sec. 9, W½NW¼NE¼, SE¼NW¼NE¼, and NE¼NW¼.

Big Tree Forest Camp No. 1 Recreation Area

T. 4 S., R. 3 E.,

Sec. 33, S½SW¼NE¼, N½SE¼SE¼, and N½SE¼;

Sec. 34, W½NW¼SW¼.

Granite Flat Recreation Area

T. 4 S., R. 2 E.,

Sec. 1, SE¼SE¼;

Sec. 12, E½E½NE¼.

T. 4 S., R. 3 E.,

Sec. 7, N½NW¼NE¼NW¼, NE¼NE¼NW¼, S½NE¼NE¼SW¼, S½NE¼SW¼, NW¼NE¼SW¼, N½SE¼SW¼, N½NE¼SE¼, E½NE¼NW¼SE¼, SW¼NW¼SE¼, and W½SE¼NW¼SE¼.

Holman Flat Forest Camp Recreation Area

T. 4 S., R. 3 E.,

Sec. 5, lots 5, 6, 7, and 9 and W½SE¼NW¼.

Little Valley Recreation Area

T. 10 S., R. 5 W.,

Sec. 14, NW¼NW¼;

Sec. 15, NE¼NE¼.

Mutual Dell Recreation Area

T. 4 S., R. 3 E.,

Sec. 29, SW¼NW¼ and S½NW¼NW¼;

Sec. 30, all of NE¼NE¼ North of the centerline of State Route 92, NW¼NE¼, and N½SE¼NE¼.

Silver Lake Flat Recreation Area

T. 3 S., R. 2 E.,

Sec. 36, SE¼NE¼ and E½SE¼.

T. 4 S., R. 2 E.,

Sec. 1, lots 1 and 8.

T. 3 S., R. 3 E.,

Sec. 31, lots 2, 3, and 4.

T. 4 S., R. 3 E.,

Sec. 6, all of lot 6 North of Silver Creek, lots 4 and 5, SE¼NW¼, SE¼SW¼, NE¼SW¼, and SW¼SE¼.

South Fork to Tibble Fork Recreation Areas

T. 4 S., R. 2 E.,

Sec. 24, W½SE¼NE¼, W½E½SE¼NE¼, and SE¼NE¼NE¼.

T. 4 S., R. 3 E.,

Sec. 7, E½NW¼, E½SE¼SW¼, W½SW¼SE¼, NE¼SE¼SE¼, NE¼SE¼SE¼SE¼, and NE¼SE¼SE¼SE¼;

Sec. 8, NE¼SW¼NW¼SW¼, S½SW¼NW¼SW¼, SE¼NW¼SW¼, N½SW¼SW¼, N½SW¼SW¼, N½S½SW¼SW¼, and SE¼SE¼SW¼SW¼;

Sec. 17, NE¼NW¼, E½NE¼NW¼NW¼, S½SW¼NW¼NW¼, SE¼NW¼NW¼, and N½SW¼NW¼;

Sec. 18, lot 4, W½NW¼NE¼NE¼, SW¼NE¼NE¼, S½SE¼NE¼NE¼, SE¼NW¼NE¼, SW¼NE¼, W½SW¼NE¼, E½NE¼NW¼, NW¼SE¼NW¼, W½NW¼SW¼SW¼, NE¼NW¼SW¼, E½W½SW¼, W½SE¼SW¼, W½W½SW¼SW¼, E½NW¼SW¼SW¼, and SE¼SW¼SW¼;

Sec. 19, E½NW¼NW¼.

Timpanogos Cave Recreation Area

T. 4 S., R. 2 E.,

Sec. 24, all of the S½S½SW¼ lying within the Lone Peak Wilderness boundary;

Sec. 25, all of the N½NW¼NW¼ lying within the Lone Peak Wilderness boundary, S½SW¼NW¼NW¼, NE¼NE¼NE¼NW¼, S½NE¼NE¼NW¼, SE¼NW¼NW¼, and S½NE¼NW¼;

Sec. 26, all of the N½N½NE¼ lying within the Lone Peak Wilderness boundary, all of the S½NW¼NE¼ lying within the Lone Peak Wilderness boundary, S½S½NE¼NE¼, S½N½NW¼ lying within the Lone Peak Wilderness boundary, S½N½SE¼NW¼, and S½NE¼SW¼NW¼;

Sec. 27, all of the S½NE¼ lying within the Lone Peak Wilderness boundary, S½S½SE¼NE¼, and S½SE¼SW¼NE¼.

Timpooneke Recreation Area

T. 4. S., R. 3 E.,

Sec. 29, N½SE¼SW¼ and all of SE¼SE¼SW¼ East of the centerline of State Route 92;

Sec. 31, S½NE¼SW¼NE¼, S½N½SE¼NE¼, and S½S½NE¼;

Sec. 32, all of NE¼NE¼NW¼ East and South of the centerline of State Route 92, SW¼NE¼, S½NW¼, and S½NE¼NW¼.

Little Valley Administrative Site

T. 10 S., R. 5 W.,

Sec. 14, NE¼NW¼.

South Fork Administrative Site

T. 4 S., R. 2 E.,

Sec. 24, E½NW¼SE¼, NE¼SE¼, SW¼SE¼, S½SE¼SE¼, E½NE¼SE¼SE¼, NE¼NW¼NE¼SE¼SE¼, SW¼NW¼SE¼SE¼, W½NW¼NW¼SE¼SE¼, and SW¼SE¼NW¼SE¼SE¼.

T. 4 S., R. 3 E.,

Sec. 19, lot 4.

Timpooneke Administrative Site

T. 4 S., R. 3 E.,

Sec. 32, SW¼NW¼NW¼, S½SW¼SE¼NW¼NW¼, E½E½SE¼NW¼NW¼, and SW¼SE¼SE¼NW¼NW¼.

(b) Wasatch-Cache National Forest

Salt Lake Meridian

Alexander Lake Recreation Area

T. 2 S., R. 8 E.,

Sec. 25, S½SE¼SE¼;

Sec. 36, NE¼NE¼ and E½NW¼NE¼.

T. 2 S., R. 9 E.,

Sec. 30, SW¼SW¼;

Sec. 31, NW¼NW¼.

Blacks Fork Camp No. 1 Recreation Area

T. 2 N., R. 11 E.,

Sec. 24, SW¼NW¼.

Blacks Fork Camp No. 3 Recreation Area

T. 2 N., R. 11 E.,

Sec. 35, NW¼NW¼NE¼ and NE¼NE¼NW¼.

Brush Creek Recreation Area

T. 2 N., R. 12 E.,

Sec. 8, NE¼NE¼.

Buckeye Lake Recreation Area

T. 2 S., R. 8 E.,

Sec. 13, SE¼SE¼SE¼;

Sec. 24, E½NE¼NE¼.

T. 2 S., R. 9 E.,

Sec. 19, NW¼NW¼.

Haydens Camp No. 2 Recreation Area

T. 1 N., R. 10 E.,

Sec. 8, W½NW¼.

Haydens Camp No. 3 Recreation Area

T. 1 N., R. 9 E.,

Sec. 36, S½NW¼NW¼ and SW¼NW¼.

Hourglass Lake Recreation Area

T. 2 S., R. 8 E.,

Sec. 24, S½NW¼SW¼ and N½SW¼SW¼.

Lodge Pole Camp Recreation Area

T. 2 N., R. 10 E.,

Sec. 26, W½NE¼SW¼ and E½NW¼SW¼.

Packers Camp Recreation Area

T. 1 S., R. 10 E.,

Sec. 19, NE¼NW¼.

Pine Creek Camp Recreation Area

T. 3 S., R. 7 W.,

Sec. 2, lots 1, 2 and 3 and SE¼NW¼.

Rock Creek Camp Recreation Area

T. 3 S., R. 8 E.,

Sec. 4, SW¼SW¼.

Stillwater Camp No. 2 Recreation Area

T. 1 N., R. 10 E.,

Sec. 9, NE¼NW¼.

Sulphur Camp Recreation Area

T. 1 N., R. 9 E.,

Sec. 24, S½SW¼NE¼, W½SW¼SE¼, and NW¼SE¼.

(c) Wasatch-Cache National Forest

Uinta Special Meridian

Hoover and Marshall Recreation Area

T. 3 N. R. 9 W.,

Sec. 2, SE¼SW¼, and SW¼SE¼;

Sec. 11, NW¼NE¼ and NE¼NW¼.

The areas described aggregate approximately 3,613 acres in Duchesne, Juab, Salt Lake, Summit, Tooele, Utah, and Wasatch Counties.

3. At 10 a.m. on October 14, 2008, the lands described in Paragraph 2 shall be opened to such forms of disposition as may by law be made of National Forest System lands, including location and entry under the United States mining laws, subject to valid existing rights, the provisions of existing withdrawals, other segregations of record, and the requirements of applicable law. Appropriation of lands described in this order under the general mining laws prior to the date and time of restoration is unauthorized. Any such attempted appropriation, including attempted adverse possession under 30 U.S.C. 38 (2000), shall vest no rights against the United States. Acts required to establish a location and to initiate a right of possession are governed by State law where not in conflict with Federal law. The Bureau of Land Management will not intervene in disputes between rival locators over possessory rights since Congress has provided for such determinations in local courts.

Authority: 43 CFR 2091.6.

Kent Hoffman,
Deputy State Director, Lands and Minerals Division.

[FR Doc. E8-21281 Filed 9-11-08; 8:45 am]

BILLING CODE 3410-11-P